DEPARTMENT OF COMMERCE

Foreign-Trade Zones Board

[Order No. 1490]

Approval for Expanded Manufacturing Authority (Manufacture/Refurbish Toner Cartridges), Foreign-Trade Subzone 77B, Brother Industries (U.S.A.) Inc., Bartlett, TN

Pursuant to its authority under the Foreign-Trade Zones Act of June 18, 1934, as amended (19 U.S.C. 81a-81u), the Foreign-Trade Zones Board (the Board) adopts the following Order:

Whereas, the City of Memphis and Shelby County (Tennessee), grantee of Foreign-Trade Zone 77, has applied to expand the scope of manufacturing authority under zone procedures within Subzone 77B, at the Brother Industries (U.S.A.) Inc. (Brother) plant located in Bartlett, Tennessee, to include manufacturing/refurbishing toner cartridges (FTZ Docket 58-2005, filed 11/17/2005);

Whereas, notice inviting public comment has been given in the Federal Register (70 FR 72292-72293, 12/2/2005); and

Whereas, the Board adopts the findings and recommendations of the examiner's report, and finds that the requirements of the FTZ Act and the Board's regulations would be satisfied, and that approval of the application would be in the public interest;

Now, therefore, the Board hereby approves the request for expanded manufacturing authority related to manufacturing/refurbishing toner cartridges, as described in the application and Federal Register notice, subject to the FTZ Act and the Board's regulations, including Section 400.28, and further subject to a restriction that privileged foreign status (19 CFR Part 146.41) shall be elected on foreign merchandise that falls under HTSUS headings or subheadings 2821, 2823, 3901.20, all of Chapter 32, or where the foreign merchandise in question is described as a “pigment, pigment preparation, masterbatch, plastic concentrate, flush color, paint dispersion, coloring preparation, or colorant.”

Signed at Washington, DC, November 21, 2006.
David M. Spooner,
Assistant Secretary of Commerce for Import Administration Alternate, Chairman Foreign-Trade Zones Board.
Attest:
Andrew McGilvray,
Acting Executive Secretary.

[FR Doc. E6-20287 Filed 11-29-06; 8:45 am]

BILLING CODE 3510-DS-P